DEPARTMENT OF COMMERCE

National Oceanic and Atmospheric Administration

RIN 0648-XG233

Northeast Regional Stock Assessment Workshop and Stock Assessment Review Committee Public Meeting

AGENCY: National Marine Fisheries Service (NMFS), National Oceanic and Atmospheric Administration (NOAA), Commerce.

ACTION: Notice of public meeting.

SUMMARY: NMFS and the Northeast Regional Stock Assessment Workshop (SAW) will convene the 65th SAW Stock Assessment Review Committee for the purpose of reviewing stock assessments of Sea Scallop and Atlantic Herring. The Northeast Regional SAW is a formal scientific peer-review process for evaluating and presenting stock assessment results to managers for fish stocks in the offshore U.S. waters of the northwest Atlantic. Assessments are prepared by SAW working groups and reviewed by an independent panel of stock assessment experts called the Stock Assessment Review Committee, or SARC. The public is invited to attend the presentations and discussions between the review panel and the scientists who have participated in the stock assessment process.

DATES: The public portion of the Stock Assessment Review Committee Meeting will be held from June 26, 2018—June 29, 2018. The meeting will commence on June 26, 2018 at 10 a.m. Eastern Standard Time. Please see SUPPLEMENTARY INFORMATION for the daily meeting agenda.

ADDRESSES: The meeting will be held in the S.H. Clark Conference Room in the Aquarium Building of the National Marine Fisheries Service, Northeast Fisheries Science Center (NEFSC), 166 Water Street, Woods Hole, MA 02543.

FOR FURTHER INFORMATION CONTACT: James Weinberg, 508-495-2352; email: james.weinberg@noaa.gov.

SUPPLEMENTARY INFORMATION: For further information, please visit the NEFSC website at http://www.nefsc.noaa.gov. For additional information about the SARC meeting and the stock assessment review, please visit the NMFS/NEFSC SAW web page at http://www.nefsc.noaa.gov/saw/.

Daily Meeting Agenda—SAW/SARC 65 Benchmark Stock Assessment for Sea Scallop and Atlantic Herring (Subject to Change; All times are approximate and may be changed at the discretion of the SARC Chair).

Tuesday, June 26, 2018

10 a.m.-10:30 a.m | Welcome Introductions | James Weinberg, SAW Chair; and SARC Chair (TBD).
10:30 a.m.-12:30 p.m | Scallop Assessment Presentation | Dvora Hart.
12:30 p.m.-1:30 p.m | Lunch. |
1:30 p.m.-3:30 p.m | Scallop Presentation (cont.) | Dvora Hart.
3:30 p.m.-3:45 p.m | Break |
3:45 p.m.-5:45 p.m | Scallop SARC Discussion | TBD, SARC Chair.
5:45 p.m.-6 p.m | Public Comment Period. |

Wednesday, June 27, 2018

8:30 a.m.-10:30 a.m | Herring Assessment Presentation | Jon Deroba.
10:30 a.m.-10:45 a.m | Break. |
10:45 a.m.-12:30 a.m | Herring presentation (cont.) | Jon Deroba.
12:30-1:30 p.m | Lunch. |
1:30 p.m.-3:30 p.m | Herring SARC Discussion. |
3:30 p.m.-3:45 p.m | Public comments. |
3:45 p.m.-4 p.m | Break. |
4 p.m.-6 p.m | Revisit with Presenters (Scallop). |

Thursday, June 28, 2018

8:30 a.m.-10:30 a.m | Revisit with Presenters (Herring). |
10:30 a.m.-10:45 a.m | Break. |
10:45 a.m.-12:15 p.m | Review/Edit Assessment Summary Report (Scallop). |
12:15-1:15 p.m | Lunch. |
1:15 p.m. -2:45 p.m | Review/Edit Assessment Summary Report (Scallop). |
2:45 p.m.-3 p.m | Break. |
3 p.m.-6 p.m | Review/Edit Assessment Summary Report (Herring) |

Friday, June 29, 2018

9 a.m.-5 p.m | SARC Report Writing. |

The meeting is open to the public; however, during the `SARC Report Writing' session on Friday June 29th the public should not engage in discussion with the SARC.

Special Accommodations

This meeting is physically accessible to people with disabilities. Special requests should be directed to James Weinberg at the NEFSC, 508-495-2352, at least 5 days prior to the meeting date.

Dated: May 31, 2018.
Jennifer M. Wallace,
Acting Director, Office of Sustainable Fisheries, National Marine Fisheries Service.

[FR Doc. 2018-12058 Filed 6-4-18; 8:45 am]

BILLING CODE 3510-22-P